DEPARTMENT OF JUSTICE

Antitrust Division

Notice Pursuant to the National Cooperative Research and Production Act of 1993; Council for the Advancement of Pyrethroid Human Risk Assessment, L.L.C.

Notice is hereby given that, on August 29, 2011, pursuant to Section 6(a) of the National Cooperative Research and Production Act of 1993, 15 U.S.C. 4301 et seq. (“the Act”), Council for the Advancement of Pyrethroid Human Risk Assessment, L.L.C. (“CAPHRA”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: AMVAC Chemical Corporation, Commerce, CA; BASF Corporation, Durham, NC; Bayer Animal Science, Pittsburgh, PA; Bayer CropScience, Research Triangle Park, NC; Botanical Resources Australia, Sandy Bay, Tasmania, Australia; Cheminova Inc., Arlington, VA; DuPont Crop Protection, Newark, DE; FMC Corporation, Philadelphia, PA; LG Life Sciences, Ltd., Clifton, VA; McLaughlin Gormley King Company, Minneapolis, MN; Meghmani, c/o Chemical Consultants International, Inc., Stilwell, KS; S.C. Johnson & Son, Inc., Racine, WI; Sumitomo Chemical Co., Ltd., Tokyo, Japan; Syngenta Crop Protection, LLC, Greensboro, NC; Valent BioSciences Corporation, Libertyville, IL; and Wellmark International (Central Life Sciences), Schaumburg, IL.

The general area of CAPHRA's planned activity is to generate and submit to the U.S. Environmental Protection Agency (“EPA”) studies necessary to address EPA's concerns for the potential for age-dependent sensitivity to Pyrethroids.

Patricia A. Brink,
Director of Civil Enforcement, Antitrust Division.

[FR Doc. 2011-24874 Filed 9-28-11; 8:45 am]

BILLING CODE 4410-11-M